NUCLEAR REGULATORY COMMISSION

[Docket No. 50-313]

Entergy Operations, Inc., Arkansas Nuclear One, Unit 1—Notice of Receipt of Application for Renewal of Facility Operating License No. DPR-51 for an Additional Twenty Year Period

The U.S. Nuclear Regulatory Commission has received an application from Entergy Operations, Inc., dated January 31, 2000, filed pursuant to Section 104b of the Atomic Energy Act of 1954, as amended, and 10 CFR Part 54 for renewal of Facility Operating License No. DPR-51, which authorizes the applicant to operate Arkansas Nuclear One, Unit 1 (ANO-1). The current operating license for ANO-1 expires on May 20, 2014. ANO-1 is a pressurized-water reactor designed by Babcock and Wilcox and is located in Pope County, Arkansas. The acceptability of the tendered application for docketing and other matters, including an opportunity to request a hearing, will be the subject of a subsequent Federal Register notice.

A copy of the application is available for public inspection at the Commission's Public Document Room, 2120 L Street, N.W., Washington, D.C. 20037.

Dated at Rockville, Maryland, this the fourth day of February 2000.
For the Nuclear Regulatory Commission.
Christoper I. Grimes,
Chief, License Renewal and Standarization Branch, Division of Regulatory Improvement Programs.

[FR Doc. 00-3186 Filed 2-10-00; 8:45 am]

BILLING CODE 7590-01-M